OFFICE OF PERSONNEL MANAGEMENT

National Council on Federal Labor-Management Relations Meeting

AGENCY: Office of Personnel Management.

ACTION: Notice of meeting.

SUMMARY: The National Council on Federal Labor-Management Relations will hold its initial meeting on February 26, 2010, at the time and location shown below. The Council is an advisory body composed of representatives of Federal employee organizations, Federal management organizations and senior government officials. The Council was established by Executive Order 13522, entitled, “Creating Labor-Management Forums to Improve Delivery of Government Services,” which was signed by the President on November 9, 2009. Along with its other responsibilities, the Council will assist in the implementation of Labor Management Forums throughout the government and will make recommendations to the President on innovative ways to improve delivery of services and products to the public while cutting costs and advancing employee interests. The Council is co-chaired by the Director of the Office of Personnel Management and the Deputy Director for Management of the Office of Management and Budget.

Please note that we are providing a slightly shortened notice period for this meeting, as permitted under 41 CFR 102-3.150 in “exceptional circumstances.” The record snowfall and resulting closure of Federal Government agencies in the National Capital Area in the previous 4½ days forced a postponement of the originally planned notice date. Deadlines imposed by the executive order are pending-agencies are required to submit draft implementation plans to OPM by March 9, and OPM believes that a timely first meeting is necessary to hear comments from the agencies and the public about the process to create Labor-Management Forums in each agency throughout the Federal Government. A further postponement of the meeting may hinder agencies' compliance with the March 9 deadline. Therefore, we believe that these conditions constitute “exceptional circumstances” within the meaning of the regulation, and that the shortened notice period is permitted.

At the February 26 meeting, the Council will discuss the functions and operating procedures of the Council and training opportunities for managers and employees' representatives. The meeting is open to the public. Please contact the Office of Personnel Management at the address shown below if you wish to present material to the Council at the meeting. The manner and time prescribed for presentations may be limited, depending upon the number of parties that express interest in presenting information.

DATES: February 26, 2010, at 10 a.m.

Location: U.S. Office of Personnel Management, Theodore Roosevelt Building, 1900 E Street, NW., Washington, DC.

FOR FURTHER INFORMATION CONTACT: Thomas Wachter, Acting Deputy Associate Director for Partnership and Labor Relations, Office of Personnel Management, 1900 E Street NW., Room 7H28-E, Washington, DC 20415. Phone (202) 606-2930; FAX (202) 606-2613; or e-mail at PLR@opm.gov.

For the National Council.
John Berry,
Director.

[FR Doc. 2010-3149 Filed 2-16-10; 11:15 am]

BILLING CODE 6325-39-P